NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: 10 CFR 50.55a, “Codes and Standards; Amended Requirements”.

3. The form number if applicable: Not applicable.

4. How often the collection is required: The American Society of Mechanical Engineers (ASME) has set a frequency for conducting these activities with its attendant recordkeeping based on operating history and the need for component functionality. The frequency is dependent on the safety function of the component. The information is generally not submitted to the NRC, but is retained by the licensees to be made available to the NRC in the event of an NRC inspection. Reporting requirements consist of one-time relief requests.

5. Who will be required or asked to report: Nuclear power plant licensees.

6. An estimate of the number of responses: A decrease of 488 responses for relief requests.

7. The estimated number of annual respondents: 103.

8. An estimate of the total number of hours needed annually to complete the requirement or request: A decrease of 1194 hours (a decrease in recordkeeping burden of 412 hours [4 hours/plant] and a decrease in reporting burden of 782 hours [8 hours/plant]).

9. An indication of whether Section 3507(d), Public Law 104-13 applies: Applicable.

10. Abstract: The proposed rule implements the later edition and addenda of Section XI, Division 1, of the ASME Boiler and Pressure Vessel Code (BPV Code), and the ASME Code for Operation and Maintenance of Nuclear Power Plants (OM Code). NRC regulations require that nuclear power plant owners (1) construct Class 1, Class 2, and Class 3 components in accordance with the rules provided in Section III, Division 1, “Requirements for Construction of Nuclear Power Plant Components,” of the ASME BPV Code; (2) inspect Class 1, Class 2, Class 3, Class MC (metal containment) and Class CC (concrete containment) components in accordance with the rules provided in Section XI, Division 1, “Requirements for Inservice Inspection of Nuclear Power Plant Components,” of the ASME BPV Code; and (3) test Class 1, Class 2, and Class 3 pumps and valves in accordance with the rules provided in ASME OM Code.

Every 120 months licensees are required to update their inservice inspection and inservice testing programs to meet the version of Section XI of the ASME BPV Code and ASME OM Code incorporated by reference into the regulations that are in effect 12 months prior to the start of a new 120-month interval.

Submit, by August 29, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F23, Rockville, MD 20852. The proposed rule indicated in “The title of the information collection” is or has been published in the Federal Register within several days of the publication date of this Federal Register Notice. The OMB clearance package and rule are available at the NRC worldwide web site: http://www.nrc.gov/NRC/PUBLIC/OMB/index.html for 60 days after the signature date of this notice and are also available at the rule forum site, http://ruleforum.llnl.gov.

Comments and questions should be directed to the OMB reviewer Bryon Allen, Office of Information and Regulatory Affairs (3150-0011), NEOB-10202, Office of Management and Budget, Washington DC 20503, by August 29, 2001.

Comments can also be submitted by telephone at (202) 395-3087.

The NRC Clearance Officer is Brenda Jo. Shelton, 301-415-7233.

Dated at Rockville, Maryland, this 23rd day of July 2001.
For the Nuclear Regulatory Commission.
Brenda Jo. Shelton,
NRC Clearance Officer, Office of the Chief Information Officer.

[FR Doc. 01-18856 Filed 7-27-01; 8:45 am]

BILLING CODE 7590-01-P